DEPARTMENT OF AGRICULTURE

Submission for OMB Review; Comment Request

December 6, 2021.

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by January 10, 2022. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service (NASS)

Title: Mink Survey.

OMB Control Number: 0535-0212.

Summary of Collection: The primary objective of the National Agricultural Statistics Service is to prepare and issue State and national estimates of crop and livestock production, prices, and disposition. The Mink Survey collects data on the number of mink pelts produced, the number of females bred, the value of pelts produced, and the number of mink farms. Mink estimates are used by the federal government to calculate total value of sales and total cash receipts, by State governments to administer fur farm programs and health regulations, and by universities in research projects.

Need and Use of the Information: NASS collects information on mink pelts produced by color, number of females bred to produce kits the following year, number of mink farms, average marketing price, and the value of pelts produced. The data is disseminated by NASS in the Mink Report and is used by the U.S. government and other groups.

Description of Respondents: Farms.

Number of Respondents: 253.

Frequency of Responses: Reporting: Annually.

Total Burden Hours: 87.

National Agricultural Statistics Service

Title: Cost of Pollination Survey.

OMB Control Number: 0535-0258.

Summary of Collection: The primary objective of the National Agricultural Statistics Service (NASS) is to prepare and issue state and national estimates of crop and livestock production, prices, and disposition; as Start Printed Page 53270 well as economic statistics, environmental statistics related to agriculture, and to conduct the Census of Agriculture. Pollinators (honeybees, bats, butterflies, hummingbirds, etc.) are vital to the agricultural industry for pollinating numerous food crops for the world's population. Concern for honeybee colony mortality has risen since the introduction of Varroa mites in the United States in the late 1980s and the appearance of Colony Collapse Disorder in the past decade.

These data will be collected under the authority of 7 U.S.C. 2204(a). Individually identifiable data collected under this authority are governed by Section 1770 of the Food Security Act of 1985 as amended, 7 U.S.C. 2276, which requires USDA to afford strict confidentiality to non-aggregated data provided by respondents. This Notice is submitted in accordance with the Paperwork Reduction Act of 1995 (Pub. L. 104-113) and the Office of Management and Budget regulations at 5 CFR part 1320. This survey is also conducted in accordance with the Confidential Information Protection and Statistical Efficiency Act of 2018, Title III of Public Law 115-435, codified in 44 U.S.C. Ch. 35.

Need and Use of the Information: NASS will collect economic data from crop farmers who rely on pollinators for their crops (fruits, nuts, vegetables, etc.). Data relating to the targeted crops are collected for the total number of acres that rely on honeybee pollination, the number of honeybee colonies that were used on those acres, and any cash fees associated with honeybee pollination. Crop Farmers are also asked if beekeepers who were hired to bring their bees to their farm were notified of pesticides used on the target acres, how many acres they were being hired to pollinate, and how much they were being paid to pollinate the targeted crops.

Description of Respondents: Farmers.

Number of Respondents: 18,000.

Frequency of Responses: Reporting: Once a year.

Total Burden Hours: 5,454.

Levi S. Harrell,
Departmental Information Collection Clearance Officer.

[FR Doc. 2021-26690 Filed 12-8-21; 8:45 am]

BILLING CODE 3410-20-P